DEPARTMENT OF TRANSPORTATION

Federal Aviation Administration

14 CFR Part 39

[Docket No. 2002-SW-45-AD; Amendment 39-13471; AD 2004-03-27]

RIN 2120-AA64

Airworthiness Directives; Eurocopter France Model AS332C, L, and L1 Helicopters; Correction

AGENCY: Federal Aviation Administration, DOT.

ACTION: Final rule; correction.

SUMMARY: This document corrects Airworthiness Directive (AD) 2004-03-27 for the Eurocopter France Model AS332C, L, and L1 helicopters that was published in the Federal Register on February 13, 2004 (69 FR 7113). The AD contains an incorrect AD number. In all other respects, the original document remains the same.

DATES: Effective March 19, 2004.

FOR FURTHER INFORMATION CONTACT: Uday Garadi, Aviation Safety Engineer, FAA, Rotorcraft Directorate, Safety Management Group, Fort Worth, Texas 76193-0110, telephone (817) 222-5123, fax (817) 222-5961.

SUPPLEMENTARY INFORMATION: The FAA issued a final rule AD 2004-03-27, on January 30, 2004 (69 FR 7113, February 13, 2004). The following correction is needed:

The AD number on page 7114 is incorrectly listed as 2002-SW-45-AD, which is the AD Docket Number; the correct AD number is 2004-03-27. Therefore, the AD number needs correcting.

Since no other part of the regulatory information has been revised, the final rule is not being republished.

Correction of the Publication

Accordingly, the publication on February 13, 2004 of the final rule (AD 2004-03-27), which was the subject of FR Doc. 04-2782, is corrected as follows:

§ 39.13 [Corrected]

On page 7114, in the second column, the AD number listed as “2002-SW-45-AD” that appears in bold text just before “Eurocopter France,” the manufacturer name, is corrected to read “2004-03-27.”

Issued in Fort Worth, Texas, on March 29, 2004.
David A. Downey,
Manager, Rotorcraft Directorate, Aircraft Certification Service.

[FR Doc. 04-7618 Filed 4-5-04; 8:45 am]

BILLING CODE 4910-13-P